DEPARTMENT OF COMMERCE

Foreign-Trade Zones Board

[B-58-2018]

Foreign-Trade Zone (FTZ) 44—Trenton, New Jersey; Notification of Proposed Production Activity; International Flavors & Fragrances, Inc. (Flavor and Fragrance Products); Hazlet, New Jersey

International Flavors & Fragrances, Inc. (IFF) submitted a notification of proposed production activity to the FTZ Board for its facility in Hazlet, New Jersey. The notification conforming to the requirements of the regulations of the FTZ Board (15 CFR 400.22) was received on September 6, 2018.

IFF already has authority to produce flavor and fragrance products within Subzone 44B. The current request would add sixteen foreign status materials/components to the scope of authority. Pursuant to 15 CFR 400.14(b), additional FTZ authority would be limited to the specific foreign-status materials/components described in the submitted notification (as described below) and subsequently authorized by the FTZ Board.

Production under FTZ procedures could exempt IFF from customs duty payments on the foreign-status materials/components used in export production. On its domestic sales, for the foreign-status materials/components noted below, IFF would be able to choose the duty rates during customs entry procedures that apply to flavor and fragrance products (duty-free to 10%). IFF would be able to avoid duty on foreign-status components which become scrap/waste. Customs duties also could possibly be deferred or reduced on foreign-status production equipment.

The materials/components sourced from abroad include: Glycerides mixed decanoyl and octanoyl; musk ketone supra; aldehyde C-16 strawberry; octinoxate; ivy carbaldehyde/methyl anthranilate Schiff's base; hydroxycitronellal/methyl anthranilate Schiff's base; herbal pyran; alpha-amyl cinnamylidene/methyl anthranilate Schiff's base; leeral/methyl anthranilate Schiff's base; coumarin; ethylene dodecanoate; aldehyde C-18; octahydrocoumarin; gamma decalactone; muskalactone; and, gamma-undecalactone (duty rate ranges from duty-free to 7.7%, or 8.8¢ per kg.).

Public comment is invited from interested parties. Submissions shall be addressed to the Board's Executive Secretary at the address below. The closing period for their receipt is October 29, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Juanita Chen at juanita.chen@trade.gov or 202-482-1378.

Dated: September 13, 2018.
Andrew McGilvray,
Executive Secretary.

[FR Doc. 2018-20368 Filed 9-18-18; 8:45 am]

BILLING CODE 3510-DS-P